APPALACHIAN STATES LOW-LEVEL RADIOACTIVE WASTE COMMISSION

Annual Meeting

TIME AND DATE: 10:00 a.m.-12:30 p.m. October 28, 2016.

PLACE: Harrisburg Hilton and Towers, One North Second Street, Harrisburg, PA 17101.

STATUS: The meeting will be open to the public.

MATTERS TO BE CONSIDERED:

Portions Open to the Public: The primary purpose of this meeting is to (1) Review the independent auditors' report of the Commission's financial statements for fiscal year 2015-2016; (2) Review the Low-Level Radioactive Waste (LLRW) generation information for 2015; (3) Consider a proposed budget for fiscal year 2017-2018; (4) Review recent regional and national developments regarding LLRW management and disposal; and (5) Elect the Commission's Officers.

Portions Closed to the Public: Executive Session, if deemed necessary, will be announced at the meeting.

CONTACT PERSON FOR MORE INFORMATION: Rich Janati, Administrator of the Commission, at 717-787-2163.

Rich Janati,
Administrator, Appalachian Compact Commission.

[FR Doc. 2016-25259 Filed 10-18-16; 8:45 am]

BILLING CODE P